DEPARTMENT OF LABOR

Employment and Training Administration

Notice of Availability of Funds and Solicitation for Grant Applications (SGA) Under the Employment and Training Administration's (ETA) Technology-Based Learning (TBL) Initiative

Announcement Type: New, Notice of Solicitation for Grant Applications.

Funding Opportunity Number: SGA/DFA PY-08-04.

Catalog of Federal Assistance Number: 17.269.

Key Dates: The closing date for receipt of applications under this announcement is August 19, 2008. Applications must be received at the address below no later than 5 p.m. (Eastern Time). Application and submission information is explained in detail in Part V of this SGA. A Webinar for prospective applicants will be held for this grant competition on July 29, 2008, 2 p.m. EDT. Access information for the Webinar will be posted on the U.S. Department of Labor's (DOL), Employment and Training Administration (ETA) Web site at: http://www.workforce3one.org.

SUMMARY: ETA announces the availability of approximately $10 million in grant funds under the TBL Initiative to be awarded through a competitive process. The purpose of the Initiative is to expand access to training resulting in an increased number of workers trained, particularly in high-growth, high-demand occupations, and to meet the needs of industry for skilled employees.

This SGA is designed to expand the vital role of TBL in helping workers quickly acquire the training and skills they need to be successful in today's global economy, and thereby increase the nation's economic competitiveness and growth. Desired outcomes include an increased amount of workforce training available online and/or enhanced with TBL, and an increased number of people trained in high-growth jobs through the use of TBL methods.

Funds will be awarded to public, private for-profit, and private non-profit organizations, including educational institutions and registered apprenticeship sponsors. Partnership with the publicly-funded workforce investment system is required.

This solicitation provides background information and describes the application submission requirements, outlines the process that eligible entities must use to apply for funds covered by this solicitation, and details how grantees will be selected.

ADDRESSES: Mailed applications must be addressed to the U.S. Department of Labor, Employment and Training Administration, Division of Federal Assistance, Attention: Mamie Williams, Reference SGA/DFA PY 08-04, 200 Constitution Avenue, NW., Room N-4716, Washington, DC 20210. Facsimile applications will not be accepted. Information about applying online can be found in Part V.C. of this document. Applicants are advised that mail delivery in the Washington, DC area may be delayed due to mail decontamination procedures. Hand delivered proposals will be received at the above address.

SUPPLEMENTARY INFORMATION: This solicitation consists of nine parts:

Part I provides background information on TBL.

Part II describes award information.

Part III describes eligibility information.

Part IV describes the application and submission process.

Part V describes the applications review process.

Part VI contains award administration information.

Part VII contains DOL agency contact information.

Part VIII lists additional resources of interest to applicants.

Part I. Background Information

1. TBL in the Innovation Economy

The world is now witnessing one of the greatest technological transformations in history. Evolutions in technology and information have ushered in the globalization of the economic marketplace. This globalization is marked by tremendous advances in communications, travel, and free trade—allowing individuals unprecedented access to commerce from almost anywhere in the world. At the same time, American businesses now must compete in this global marketplace.

Global competition is typically seen as a national challenge. In reality, competition lies within regions where companies, workers, researchers, entrepreneurs and governments come together to create a competitive advantage in the global marketplace. That advantage stems from the ability to transform new ideas and new knowledge into advanced, high quality products or services—in other words, to innovate.

Areas that are successful in creating a competitive advantage demonstrate the ability to organize “innovation assets”—people, institutions, capital and infrastructure—to generate growth and prosperity in the region's economy. These regions are successful because they have connected key elements such as workforce skills and lifelong learning strategies; investments and entrepreneurial strategies; and regional infrastructure and economic development strategies.

TBL could strengthen the innovation assets of individuals by increasing their workforce skills and supporting lifelong learning. TBL, also commonly known as e-learning, constitutes learning via electronic technology, including the Internet, intranet sites, satellite broadcasts, audio and video conferencing, Internet bulletin boards, chat rooms, Web casts, simulations, gaming, podcasting, and a variety of mobile options. TBL is an umbrella term, which also encompasses related terms, such as distance learning, on-line learning, Web-based learning (learning that occurs via the Internet), CDs and DVDs, and computer-based learning (learning through the use of dedicated personal computers).

TBL can be synchronous (learning occurs when instructors and learners meet at a specific time in a physical or virtual classroom), or it can be asynchronous (learning does not occur at a pre-specified time and may be self-paced). Blended learning combines aspects of synchronous and asynchronous, as well as virtual and face-to-face instruction.

TBL approaches and methods have expanded in recent years due to the proliferation of computer connectivity and high speed Internet access. Some States and local areas have embraced this transformative learning model which can be inexpensive and conveniently mobile, and have incorporated it into their training delivery options.

ETA launched the TBL Initiative within the workforce investment system in 2006 to encourage a national strategy for advancing the use of technology for training. The initiative seeks to increase the number of people trained in high growth jobs through the broadening of opportunities for skill and competency development through the use of TBL methods. Through the TBL Initiative and other investments, ETA has supported the use of TBL in demonstrations aimed to use technology to increase access to lifelong learning.

The promise of these TBL demonstrations has prompted ETA to move to systematically support the use of TBL nationwide. This SGA seeks to support models of TBL to stimulate new and innovative uses of technology for training the workforce in the skills demanded by their regional economies and high-growth/high-demand industries and occupations.

2. Critical Elements of TBL Grants

It is ETA's expectation that these TBL grants will contain at least the following critical elements: (A) A focus on expanding training opportunities to develop demand-driven skills and competencies using TBL that are sustainable and scalable; (B) strategic partnerships with recognized or emerging high-growth/high-demand industries, educational and training institutions, and the public workforce investment system; (C) robust provisions for user support in the TBL proposal framework for all potential clients including underserved populations, and all levels of computer and Internet technical proficiency; and (D) training leading to an industry or occupationally recognized credential, certificate, or qualification in a high-growth/high-demand field.

A. Expanding Training Opportunities Using TBL

TBL presents solutions to several challenges in expanding access to post-secondary and lifelong learning because of its inherent ability to overcome traditional obstacles to learning that include the distance from one's home or office to the training or educational facility, the variable nature of the time commitment required of users, the pace of learning offered, and the accessibility to specific resources that otherwise are not locally available.

The spread and proliferation of technology and TBL methods presents a wide universe of options available to address training and employment needs, including new and innovative uses of technology to enhance existing training programs. For example, overcoming time barriers for TBL users could entail training that is available on-demand on a flexible or entirely user-driven schedule. Bridging the distance from training providers to users could entail the delivery of content over the Internet, by converting current training courses to an online and/or TBL enhanced platform, by satellite connections, phone lines, computer-based programs, television and radio frequencies, among other methods.

The TBL grant awards are intended in part to identify promising approaches that can be scalable for wider deployment after the grant period. Successful demonstration programs are often rolled out on a regional or national basis, and proposals should outline how their program could be implemented on a wider scale should they be successful in meeting their goals. This requires grantees to keep careful records of program implementation, best practices, data collection, and to coordinate with evaluation efforts as appropriate.

B. Demand-Driven Strategic Partnerships

Successful development and application of TBL programs in a regional economy requires the collaboration of high-growth/high-demand industries and/or businesses, education and training providers, and the workforce investment system. These strategic partnerships should engage each partner in its area of strength. For example, industry representatives and employers can define workforce challenges facing the industry and identify the competencies and skills required for the industry's workforce. Education and training providers can assist in developing competency models and curricula and train new and incumbent workers. The workforce investment system can compile and analyze local labor market information, access human capital (e.g. youth, unemployed, underemployed, and dislocated workers), provide funding to support training for qualified individuals, and connect trained workers to good jobs.

Applicants must demonstrate the existence of a partnership that includes at least one entity from each of three categories: (1) The publicly funded workforce investment system, which may include State and local Workforce Investment Boards, State Workforce Agencies, and One-Stop Career Centers and their partners; (2) the education and training community, which includes community and technical colleges, four-year colleges and universities, and other training entities; and (3) representatives from industry in high-growth/high-demand fields.

These partnerships should exist within an economic region that may or may not fall within typical State, county, local workforce investment area, or municipal boundaries. Applications should detail the region in which the project will operate. In addition, grantees will be required to match 20 percent of the grant award with monetary or in-kind resources.

The Workforce Investment Act of 1998 (Pub. L. 105-220) as amended (WIA) emphasizes a workforce system driven by the needs of local employers. Educational institutions, Workforce Investment Boards, and One-Stop Career Centers play a vital role in this effort by understanding the workforce needs of these industries and providing training and other services to address those needs. Successful applications will outline in detail the skills and competencies demanded by employers, provide compelling evidence of their claims, and show the impact the project will have in the target industry and/or region.

C. Program Design, User Support, Outcomes

TBL approaches are frequently used to serve those individuals who are perceived to be proficient in computers and technology, such as younger workers or skilled professionals. However, projects such as the New Jersey Online Learning Demonstration, which enabled low income women to access online learning, have shown that TBL can benefit a much wider population, and can improve and expand access to learning for individuals frequently left behind by technology initiatives. TBL grant projects should ensure that the targeted participants, those who need additional education and training, are able to access TBL opportunities. Grant applications that reach populations typically not served by technology initiatives are encouraged. ETA encourages applicants who are targeting disconnected populations to partner with networks of faith- and community-based organizations. Faith- and community-based organizations have valuable expertise in successful strategies for working with disconnected populations and can provide outreach and wrap around support services as needed. For applicants choosing to partner with faith- and community-based organizations please visit http://www.dol.gov/cfbci/accesspoints.htm for specific mechanisms and strategies for integrating these organizations into the proposal.

In addition, potential TBL users constitute a wide range of technology literacy levels. Successful applications will include provisions enabling participants with varying technical skill levels to participate in the proposed project. This may include computer and Internet literacy programs. However, such programs should not constitute the entirety of the proposed project, but should be used to enable as many participants as possible to benefit from the proposed project.

Once learners have developed basic computer and technology proficiency, projects funded under the TBL grants should also provide technical support to ensure participants are successful in using the TBL application or other technologies supported under the grant project. This support should be available to all learners served by the grant project. Technical support would assist learners in using relevant software, as well as assisting learners in diagnosing and fixing hardware problems that prevent them from being able to use the TBL supported by the grant. Support could be in the form of dedicated user support telephone numbers, periodic refresher courses, webinars or online learning modules, in-person consultation at a central site or a site convenient for the learner, periodic in-person gatherings, or other methods of support provision. Successful applications will outline methods and techniques for user support for the proposed training program.

D. Training Leading to Recognized Credentials

Achieving widely recognized industry credentials and qualifications are important to employment skills training. These qualifications are portable across companies and different parts of the country, and provide employment flexibility and mobility to the worker. In the event no currently recognized credential in the target industry or occupation exists, compelling arguments backed by sufficient evidence of competency towards meeting the needs of the target industry upon program completion will also be considered.

Part II. Award Information

1. Award Amount

ETA anticipates awarding approximately twenty (20) grants, with individual grants generally ranging in value from $100,000 up to $500,000. However, this does not preclude ETA from funding grants at either a lower or higher amount, or funding a smaller or larger number of projects, based on the type and the number of quality submissions. Applicants are encouraged to submit budgets for quality projects at whatever funding level is appropriate to their project.

2. Period of Performance

The period of grant performance will be up to 36 months from the date of execution of the grant documents. This performance period shall include all necessary implementation and start-up activities, participant follow-up for performance outcomes, and grant close-out activities. ETA may elect to exercise its option to award no-cost extensions to grants for an additional period, based on the success of the program and other relevant factors, if the grantee requests, and provides a significant justification for such an extension.

3. Required Matching Resources

ETA grant funds must not be the sole funding source for the activities to be carried out under the proposal. Grantees must match 20 percent of the grant amount with monetary or in-kind contributions. Matching must meet the definition delineated in 29 CFR Part 95.23 and 29 CFR Part 97.24. Applicants must fully describe the amount, commitment, nature, and quality of the matched resources. Please note that Federal resources may not be counted as match. To be allowable as part of match, a cost must be an allowable charge for Federal grant funds. Determinations of allowable costs will be made in accordance with the applicable Federal cost principles as indicated in Part II. If the cost would not be allowable as a grant-funded charge, then it also cannot be counted toward matching funds. Matching funds must be expended during the grant period of performance. Please note that applicants are expected to fulfill the match amount specified on their SF-424 application and SF-424a budget form. Upon completion of the grant, if the match amount specified by the applicant is not met or if a portion of the matching funds are found to be an unallowable cost, the amount of DOL grant funds may be decreased on a dollar for dollar basis. This may result in the repayment of funds to DOL.

4. Use of Funds/Allowable Activities

TBL grants will be funded by H-1B fees as authorized under Sec. 414(c) of the American Competitiveness and Workforce Improvement Act of 1998 (Pub. L. 105-277, title IV) as amended by Public Law 108-447 (codified at 29 U.S.C. 2916a). These funds are focused on the development of the workforce and may be used to provide job training and related activities to workers to assist them in gaining the skills and competencies needed in industry sectors and occupations projected to experience significant growth or significant demand for workers. Whether the focus is on an industry sector or an occupational area, training investments using grant funds should focus on workforce education in high-skill occupations. Funds available under this Solicitation may only be used for projects that provide training in the occupations and industries for which employers use H-1B visas or those related activities necessary to support training in such occupations and industries.

Please see the report titled Characteristics of Specialty Occupation Workers (H-1B): Fiscal Year 2005, especially table 13B on page 21 of the report, from the following link for guidance on the list of eligible occupations and industries that have been identified as those for which employers use H-1B visas to employ foreign workers. http://www.uscis.gov/files/nativedocuments/H1B_FY05_Characteristics.pdf.

Activities funded under this Solicitation must be focused on developing skills and competencies related to the fields identified in the Attachment. Funds may also be used to enhance the provision of job training services and information as authorized in 29 U.S.C. 2916a(2)(B).

5. Funding Restrictions

Determinations of allowable costs will be made in accordance with the applicable Federal cost principles. Disallowed costs are those charges to a grant that the grantor agency or its representative determines not to be allowed in accordance with the applicable Federal cost principles or other conditions contained in the grant. Successful or unsuccessful applicants will not be entitled to reimbursement of pre-award costs.

Limitations on Cost per Participant. Since training costs may vary considerably for different occupations in different industries on the skills and competencies required, flexibility will be given on the cost per-participant. However, applications for funding will be reviewed to determine if the cost of the training is appropriate and will produce the outcomes identified. Applicants should demonstrate that the proposed cost per participant is aligned with existing price structures for similar training in the local area or other areas with similar characteristics. When calculating cost per participant, applicants must distinguish between non-training and training costs utilizing grant funds.

Indirect Costs. As specified in the Office of Management and Budget Circular Cost Principles, indirect costs are those that have been incurred for common or joint objectives and cannot be readily identified with a particular cost objective. An indirect cost rate (ICR) is required when an organization operates under more than one grant or other activity whether Federally-assisted or not. Organizations must use the indirect cost rate supplied by the cognizant Federal agency. If an organization requires a new ICR or has a pending ICR, the Grant Officer will award a temporary billing rate for 90 days until a provisional rate can be issued. This rate is based on the fact that an organization has not established an ICR agreement. Within this 90 day period, the organization must submit an acceptable indirect cost proposal to their Federal cognizant agency to obtain a provisional ICR.

Administrative Costs. Under the TBL Initiative, an entity that receives a grant to carry out a project or program may not use more than 10 percent of the amount of the grant to pay administrative costs associated with the program or project. Administrative costs could be both direct and indirect costs and are defined at 20 CFR 667.220. Administrative costs do not need to be identified separately from program costs on the Standard Form 424A Budget Information Form. Administrative costs should be discussed in the budget narrative and tracked through the grantee's accounting system.

To claim any administrative costs that are also indirect costs, the applicant must obtain an indirect cost rate agreement from its Federal cognizant agency as specified above.

Use of Funds for Supportive Services. Use of grant funds for supportive services, such as transportation and childcare, including funds provided through stipends for such purposes, is not an allowable cost under this Solicitation for Grant Applications.

Salary and Bonus Limitations. None of the funds awarded under this grant shall be used by a recipient or sub-recipient of such funds to pay the salary and bonuses of an individual, either as direct costs or indirect costs, at a rate in excess of Executive Level II. See sections five through eight of the Training and Employment Guidance Letter number 5-06 for further clarification: http://wdr.doleta.gov/directives/corr_doc.cfm?DOCN=2262.

Legal Rules Pertaining to Inherently Religious Activities by Organizations that Receive Federal Financial Assistance. The government is generally prohibited from providing direct financial assistance for inherently religious activities (please see 29 CFR Part 2, Subpart D). These grants may not be used for religious instruction, worship, prayer, proselytizing or other inherently religious activities except as provided in those regulations. Therefore, organizations must take steps to separate, in time or location, their inherently religious activities from the services funded under this program. Neutral, non-religious criteria that neither favors nor disfavors religion will be employed in the selection of grant recipients and must be employed by grantees in the selection of sub-recipients.

A faith-based organization receiving ETA funds retains its independence from Federal, State, and local governments, and may continue to carry out its mission, including the definition, practice, and expression of its religious beliefs. For example, a faith-based organization may use space in its facilities to provide secular programs or services funded with Federal funds without removing religious art, icons, scriptures, or other religious symbols. In addition, a faith-based organization that receives Federal funds retains its authority over its internal governance, and it may retain religious terms in its organization's name, select its board members on a religious basis, and include religious references in its organization's mission statements and other governing documents in accordance with all program requirements, statutes, and other applicable requirements governing the conduct of ETA funded activities.

Faith-based and community organizations may also reference ETA Training and Employment Guidance Letter (TEGL) No. 01-05 (July 6, 2005), available at http://wdr.doleta.gov/directives/corr_doc.cfm?DOCN=2088 and the “Guidance to Faith-Based and Community Organizations on Partnering with the Federal Government” at http://www.whitehouse.gov/government/fbci/guidance/index.html.

ETA Intellectual Property Rights. Applicants should note that grantees must agree to provide USDOL/ETA a paid-up, nonexclusive and irrevocable license to reproduce, publish, or otherwise use for Federal purposes all products developed or for which ownership was purchased under an award, including but not limited to curricula, training models, technical assistance products, and any related materials, and to authorize them to do so. Such uses include, but are not limited to, the right to modify and distribute such products worldwide by any means, electronically or otherwise.

Part III. Eligibility Information

Eligible Applicants. This SGA intends to encourage new and continuing partnerships between: The publicly funded workforce investment system; representatives from business, industry, and economic development; and the continuum of education.

In order to be eligible for consideration under this solicitation, the applicant must be either:

• An accredited educational institution in partnership with a Workforce Investment Board. The applicant must have a letter of commitment from the Workforce Investment Board.

• A private non-profit, or private provider of workforce system services determined to be tax exempt under section 501(C) of the Internal Revenue Code, including registered apprenticeship sponsors, in partnership with a Workforce Investment Board. The applicant must have a letter of commitment from the Workforce Investment Board.

• A One-Stop Career Center as established under Section 121 of WIA, [29 U.S.C. 2841], in partnership with a state or local Workforce Investment Board. The eligible applicant for One-Stop Career Centers is the One-Stop Operator, as defined under Section 121(d) of WIA [29 U.S.C. 2841(d)], on behalf of the One-Stop Career Center. The One-Stop applicant must have a letter of commitment from the state or local Workforce Investment Board, and demonstrate that the Workforce Investment Board, or its designated fiscal agent, will serve as the fiscal agent for the grant by clearly providing the legal name and the Employer Identification number of the fiscal agent. The Workforce Investment Board's support and involvement in the project should be detailed in the letter of commitment. Applications from One-Stop Career Centers without a letter of commitment from their Workforce Investment Board will be considered non-responsive and will not be reviewed.

• An employer or industry association in partnership with a Workforce Investment Board. The applicant must have a letter of commitment from the Workforce Investment Board.

• Private, for-profit organizations in partnership with a Workforce Investment Board. The applicant must have a letter of commitment from the Workforce Investment Board.

Other Eligibility Requirements

Veterans Priority. The Jobs for Veterans Act (Pub. L. 107-288) provides priority of service to veterans and spouses of certain veterans for the receipt of employment, training, and placement services in any job training program directly funded, in whole or in part, by the Department of Labor. In circumstances where a TBL Grant recipient must choose between two equally qualified candidates for training, one of whom is a veteran, the Jobs for Veterans Act requires that TBL grant recipients give the veteran priority of service by admitting him or her into the program. Please note that, to obtain priority of service, a veteran must meet the program's eligibility requirements. ETA Training and Employment Guidance Letter (TEGL) No. 5-03 (September 16, 2003) provides general guidance on the scope of the Job for Veterans Act and its effect on current employment and training programs. TEGL No. 5-03, along with additional guidance, is available at the “Jobs for Veterans Priority of Service” Web site: http://www.doleta.gov/programs/vets.

Participants Eligible To Receive TBL Training. Generally, the scope of potential trainees is very broad. Training may be targeted to a wide variety of populations, including unemployed individuals and incumbent workers. The identification of targeted and qualified trainees should be part of the larger project planning process by the required partnership and should relate to the workforce issue that is being addressed by the training.

Part IV. Application and Submission Process

A. Address To Request Application Package

This SGA contains all of the information and links to forms needed to apply for grant funding.

B. Content and Form of Application Submission

The proposal must consist of two (2) separate and distinct parts, Part I—The Cost Proposal and Part II—The Technical Proposal. Applications that fail to adhere to the instructions in this section will be considered non-responsive and may not be given further consideration. Applicants who wish to apply do not need to submit a Letter of Intent. The completed application package is all that is required.

Part I—The Cost Proposal must include the following three items:

• The Standard Form (SF) 424, “Application for Federal Assistance” (available at http://www.doleta.gov/sga/forms.cfm). The SF 424 must clearly identify the applicant and be signed by an individual with authority to enter into a grant agreement. Upon confirmation of an award, the individual signing the SF 424 on behalf of the applicant will be considered the Authorized Representative of the applicant.

• All applicants for Federal grant and funding opportunities are required to have a Data Universal Numbering System (DUNS) number provided by Dun and Bradstreet. See OMB Notice of Final Policy Issuance, 68 FR 38402 (June 27, 2003). Applicants must supply their DUNS number on the SF 424. The DUNS number is a nine-digit identification number that uniquely identifies business entities. Obtaining a DUNS number is easy and there is no charge. To obtain a DUNS number, access this Web site, http://www.dunandbradstreet.com, or call 1-866-705-5711.

• The SF 424A Budget Information Form (available at http://www.doleta.gov/sga/forms.cfm). In preparing the Budget Information Form, the applicant must provide a concise narrative explanation to support the request. The budget narrative should explain the administrative costs and how they support the project goals. All applicants should indicate training costs-per-participant by dividing the total amount of the budget designated for training by the number of participants trained. Only an applicant's match amount should be listed on the SF 424 (Block 18) and SF 424A Budget Information Form (Section A, Column F and Section C). Please note that applicants that fail to provide an SF 424, SF 424A and a budget narrative will be removed from consideration prior to the technical review process. The amount of Federal funding requested for the entire period of performance should be shown together on the SF 424 and SF 424A Budget Information Form. Applicants are also encouraged, but not required, to submit the OMB Survey No. 1890-0014: Survey on Ensuring Equal Opportunity for Applicants, which can be found at: http://www.doleta.gov/sga/forms.cfm.

Part II—The Technical Proposal of the application demonstrates the applicant's capabilities to fulfill the intention of the TBL Initiative. The Technical Proposal is limited to twenty (20) double-spaced, single-sided, 8.5 inch x 11 inch pages with twelve point text font and one-inch margins. The first page of Part II—The Technical Proposal must consist entirely of an executive summary not to exceed one page. Applicants should number the Technical Proposal beginning with page number one. Any pages over the 20-page limit will not be reviewed. In addition, while the applicant may provide resumes, general letters of support and other related material, any attachments may not exceed an additional 10 pages. The required letter(s) of concurrence and/or documentation of partnership must be submitted and will not count against the first 20 allowable pages, but will count against the 10-page limitation on attachments. Please note, letters of commitment should be sent with or attached to the application. Additionally, the applicant must reference grant partners by organizational name in the text of the Technical Proposal. No cost data or reference to prices should be included in the Technical Proposal. Applications may be submitted electronically on http://www.grants.gov or in hard-copy via U.S. mail, professional overnight delivery service, or hand delivery. These processes are described in further detail in Part IV.C. Applicants submitting proposals in hard-copy must submit an original signed application (including the SF 424) and one (1) “copy-ready” version free of bindings, staples or protruding tabs to ease in the reproduction of the proposal by USDOL/ETA.

C. Submission Date, Times and Mailing Address

The closing date for receipt of applications under this announcement is August 19, 2008. Applications must be received at the address below no later than 5 p.m. (Eastern Time). Applications sent by e-mail, telegram, or facsimile will not be accepted. Applications that do not meet the conditions set forth in this notice will not be honored. No exceptions to the mailing and delivery requirements set forth in this notice will be granted.

ETA will post Frequently Asked Questions (FAQs) about this SGA on our Web site, http://www.doleta.gov/grants. The FAQs as well as the dates and access information for the Prospective Applicant Conferences will be posted on ETA's Web site at: http://www.doleta.gov/grants. Please check these pages periodically during the application period of the solicitation for updates.

Please submit one (1) blue-ink signed, typewritten original of the application and two (2) signed photocopies in one package to the U.S. Department of Labor, Employment and Training Administration, Division of Federal Assistance, Attention: Mamie Williams, Reference SGA/DFA PY 08-04, 200 Constitution Avenue, NW., Room N-4716, Washington, DC 20210. Information about applying online through http://www.grants.gov can be found in section IV.C of this document. Applicants are advised that mail delivery in the Washington area is delayed due to mail decontamination procedures. Hand delivered proposals will be received at the above address.

Applicants may apply online through grants.gov (http://www.grants.gov). It is strongly recommended that applicants applying online for the first time via grants.gov immediately initiate and complete the “Get Registered” registration steps at http://www.grants.gov/applicants/get_registered.jsp. These steps may take multiple days or weeks to complete, and this time should be factored into plans for electronic application submission in order to avoid unexpected delays that could result in the rejection of an application. It is highly recommended that online submissions be completed at least two (2) working days prior to the date specified for the receipt of applications to ensure that the applicant still has the option to submit by overnight delivery service in the event of any electronic submission problems. If submitting electronically through grants.gov, the attachments of the application must be saved as either .doc, .xls or .pdf files.

Late Applications: Any application received after the exact date and time specified for receipt at the office designated in this notice will not be considered, unless it is received before awards are made, was properly addressed, and: (a) Was sent by U.S. Postal Service registered or certified mail not later than the fifth calendar day before the date specified for receipt of applications (e.g., an application required to be received by the 20th of the month must be postmarked by the 15th of that month) or (b) was sent by professional overnight delivery service or submitted on grants.gov to the addressee not later than one working day prior to the date specified for receipt of applications. It is highly recommended that online submissions be completed two (2) working days prior to the date specified for receipt of applications to ensure that the applicant still has the option to submit by professional overnight delivery service in the event of any electronic submission problems. Applicants take a significant risk by waiting until the last day to submit by grants.gov. “Postmarked” means a printed, stamped or otherwise placed impression that is readily identifiable, without further action, as having been supplied or affixed on the date of mailing by an employee of the U.S. Postal Service. Therefore, applicants should request the postal clerk to place a legible hand cancellation “bull's eye” postmark on both the receipt and the package. Failure to adhere to the above instructions will be a basis for a determination of non-responsiveness. Evidence of timely submission by a professional overnight delivery service must be demonstrated by equally reliable evidence created by the delivery service provider indicating the time and place of receipt.

D. Intergovernmental Review

This funding opportunity is not subject to Executive Order (EO) 12372, “Intergovernmental Review of Federal Programs.”

E. Withdrawal of Applications

Applications may be withdrawn by written notice at any time before an award is made. Applications may be withdrawn in person by the applicant or by an authorized representative thereof, if the representative's identity is made known and the representative signs a receipt for the proposal.

Part V. Applications Review Process

This section identifies and describes the criteria that will be used to evaluate proposals for this grant program. These criteria and point values are listed in the table below.

Expanding Training Opportunities Using TBL | 30
Demand-Driven Strategic Partnerships | 20
Program Design, User Support, and Outcomes | 40
Training Leading to an Industry Recognized Credential | 10

Expanding Training Opportunities Using TBL (30 Points)

As described below, the applicant must show in detail how their proposed usage of TBL will expand and/or improve upon training opportunities for their targeted industry or occupation and population.

Expanding Training Opportunities Using TBL (10 points)—Applicants must clearly show how the use of TBL in their proposal will expand the employment and training options available to consumers in their targeted occupation and/or industry. Applications proposing expansion of existing TBL employment and training programs must clearly show how many more individuals will be served than are currently being served by the program. All applications must clearly show the number of additional individuals the proposal would allow to be trained.

Overcoming Traditional Workforce Training Barriers (10 points)—The applicant must describe how their proposed use of TBL would overcome barriers of distance and time for the user and capacity for the training providers and/or users as described in Part I of this SGA. Successful applications will show the necessity of using TBL methods to increase the numbers of individuals trained.

Sustainability and Scalability (7 points)—ETA places a high premium on demonstrations that can be sustainable after the grant period has ended and that are scalable to larger roll out across the nation. Proposals should outline plans for sustainability of the program post-grant in regard to the program and partnerships. Also, applications should outline the feasibility of expanding a successful program in terms of geographic reach, industry sites served, numbers of individuals trained, and of replicating the entire program.

Need for Federal Investment (3 points)—Applicants must clearly outline the need for intervention in the targeted industry or occupational field, as well as the necessity of the Federal investment. Applications must describe in detail the current challenges the proposal seeks to overcome with TBL methods, and must demonstrate how the proposed project will increase opportunities for training in the applicant's target population.

Demand-Driven Strategic Partnerships (20 points)

As described below, applicants must show evidence that a strong partnership exists among educational institutions, local high-growth/high-demand industries, and the workforce investment system. Applicants must highlight and discuss the targeted high-growth/high-demand occupation and/or industry and clearly show the need for the proposal in meeting the demands of each as appropriate. Applicants must provide letters of commitment from each partner detailing their involvement in the proposal.

Strength of Partnerships (8 points)—The strength of the strategic partnership is critical to the successful execution of the proposal and the post-grant viability of the program. Applicants must clearly explain how the strategic partners are engaged to the fullest extent possible and articulate how each partner's area of expertise will be utilized in the project. If disconnected or disadvantaged populations are targeted in the grant, the applicant must show how it will foster access to training through networks of faith- and community-based organizations. Letters of commitment from each partner detailing their participation in each stage of the project are required. The applicant must discuss how the partners will interact at each stage of the project and the ability of the lead organization to successfully manage the partnership and project. The applicant must designate one organization from the workforce investment or education system from among the application's partners to act as grant recipient.

High-growth/High-demand (7 points)—Industry partners should be chosen from high-growth/high-demand industries in the targeted regional economy. Successful applications will provide detailed evidence of their industry partner's position as a high-demand/high-growth industry field or as an employer of the targeted high-growth/high-demand occupation. Applications must also clearly and convincingly outline the need for TBL training resources to be used to meet employment and training demand.

Organizational Capacity (5 points)—Applications must detail each partner's experience, expertise, and ability to fulfill their part of the proposal and document any history of past collaborations. In addition, expertise in TBL and the target industry and/or occupation should be well documented.

Program Design, User Support, and Outcomes (40 points)

In evaluating the quality of the program design and management plan for each proposal, ETA will consider the following elements.

Program Design (20 points)—Applicants must clearly outline the training or learning program to be developed, expanded, and/or created, and include timelines for implementation and benchmark evaluations as appropriate. If the content already exists, the applicant shall clearly explain how the content will be expanded through the use of TBL to meet the occupational skill needs of industry in the targeted fields. Applicants will also be scored on the extent to which the management plan appears likely to achieve the objectives of the project in meeting the goals of the TBL grant. Applicants must estimate how many more individuals will be able to access the training program than currently enrolled.

Outcomes (10 points)—Applications must project the increased number of individuals that will be able to receive training under the proposal. For existing programs, applications must show the numbers of individuals trained in the previous training cycle. Estimations of projected increases in individuals trained should be compelling and fully formed, and include consideration from all appropriate factors.

User Support (5 points)—Applications must clearly outline their plans to provide user support to program participants including bridging the digital divide and all manners of proposed technical support for users, including, but not limited to user support examples outlined in Part I of this SGA.

Evaluation and Data Collection (5 points)—Measuring the performance of pilots and demonstrations is a high priority for ETA. Post-grant evaluations require collection of a robust set of variables. While grantees will not be required to perform an evaluation themselves, they will be required to participate in an evaluation of the demonstration. Therefore, applicants must demonstrate a capacity to gather relevant statistical, demographic, and other data as appropriate from project participants and program performance. Grantees must participate in and cooperate with any planned evaluation, which may extend beyond the grant period of performance.

Data collection may include, but is not limited to:

• Total enrollment in training program.

• Increase in enrollment attributed to grant (number of additional students).

• Number of participants that entered employment.

• Number of participants that entered employment in industry related to training.

• Participant's employment retention after six months and advancement.

• Participant's average earnings in the two quarters after program exit.

• Participant's receiving promotions and/or wage gains.

• Participant's receiving industry recognized credentials or educational certifications.

Training Leading to an Industry Recognized Credential (10 points)

Applicants must seek to train individuals towards attainment of an industry or occupationally recognized certificate or credential. Applications must clearly state the specific industry or occupationally recognized credential that the TBL training will lead to and provide a brief discussion of the credential. Foundational training can be a component of a proposal, but the majority of the funds should be directed towards industry-specific training. In the absence of a defined and recognized credential for the targeted industry or occupation, compelling evidence of occupational skill and/or competency attainment through program completion will be considered. In every instance possible, industry-specific training should conform to published competency models. A link to a published competency model is included below. http://www.careeronestop.org/CompetencyModel.

Review and Selection Process

Applications will be accepted after the publication of this announcement until the closing date. A technical review panel will make a careful evaluation of applications against the criteria set forth in Part V of this Solicitation. These criteria are based on the policy goals, priorities, and emphases set forth in this SGA. Up to 100 points may be awarded to an application, based on the required information described in Part V of this Solicitation. The ranked scores will serve as the primary basis for selection of applications for funding, in conjunction with other factors such as: Urban, rural, and geographic balance; industry balance; the availability of funds; and which proposals are most advantageous to the Government. The panel results are advisory in nature and not binding on the Grant Officer, who may consider any information that comes to his attention. ETA may elect to award the grant(s) with or without prior discussions with the applicants. The Government will consider applications rated by the evaluation panels with a score of 80 or above to be eligible for a grant award. Applicants that score less than 80 will not be eligible for a grant award. Should a grant be awarded without discussions, the award will be based on the applicant's signature on the SF 424, which constitutes a binding offer.

Part VI. Award Administration Information

A. Award Notices

All award notifications will be posted on the ETA Web site at http://www.doleta.gov. Applicants selected for award will be contacted directly before the grant's execution. Applicants not selected for award will be notified by mail as soon as possible.

Note: Selection of an organization as a grantee does not constitute approval of the grant application as submitted. Before the actual grant is awarded, ETA may enter into negotiations about such items as program components, staffing, and administrative systems in place to support grant implementation. If negotiations do not result in a mutually acceptable submission, the Grant Officer reserves the right to terminate the negotiation and decline to fund the application.

B. Administrative and National Policy Requirements

1. Administrative Program Requirements

All grantees will be subject to all applicable Federal laws, regulations, and the applicable OMB Circulars. The grant(s) awarded under this SGA will be subject to the following administrative standards and provisions, if applicable:

a. Workforce Investment Act—20 CFR Part 667 (General Fiscal and Administrative Rules).

b. Non-Profit Organizations—OMB Circulars A-122 (Cost Principles) and 29 CFR Part 95 (Administrative Requirements).

c. Educational Institutions—OMB Circulars A-21 (Cost Principles) and 29 CFR Part 95 (Administrative Requirements).

d. State and Local Governments—OMB Circulars A-87 (Cost Principles) and 29 CFR Part 97 (Administrative Requirements).

e. Profit Making Commercial Firms—FAR—48 CFR Part 31 (Cost Principles), and 29 CFR Part 95 (Administrative Requirements).

f. All entities must comply with 29 CFR Parts 93 and 98, and, where applicable, 29 CFR Parts 96 and 99.

g. The following administrative standards and provisions may also be applicable:

i. 29 CFR Part 2, Subpart D—Equal Treatment in DePartment of Labor Programs for Religious Organizations, Protection of Religious Liberty of DePartment of Labor Social Service Providers and Beneficiaries;

ii. 29 CFR Part 30—Equal Employment Opportunity in Apprenticeship and Training;

iii. 29 CFR Part 31—Nondiscrimination in Federally Assisted Programs of the DePartment of Labor—Effectuation of Title VI of the Civil Rights Act of 1964;

iv. 29 CFR Part 32—Nondiscrimination on the Basis of Handicap in Programs and Activities Receiving or Benefiting from Federal Financial Assistance;

v. 29 CFR Part 33—Enforcement of Nondiscrimination on the Basis of Handicap in Programs or Activities Conducted by the DePartment of Labor;

vi. 29 CFR Part 35—Nondiscrimination on the Basis of Age in Programs or Activities Receiving Federal Financial Assistance from the DePartment of Labor;

vii. 29 CFR Part 36—Nondiscrimination on the Basis of Sex in Education Programs or Activities Receiving Federal Financial Assistance;

viii. 29 CFR Part 37—Implementation of the Nondiscrimination and Equal Opportunity Provisions of the Workforce Investment Act of 1998. In accordance with Section 18 of the Lobbying Disclosure Act of 1995 (Pub. L. 104-65) (2 U.S.C. 1611) non-profit entities incorporated under Internal Revenue Service Code section 501(c)(4) that engage in lobbying activities are not eligible to receive Federal funds and grants.

Note: Except as specifically provided in this Notice, ETA's acceptance of a proposal and an award of Federal funds to sponsor any program(s) does not provide a waiver of any grant requirements and/or procedures. For example, OMB Circulars require that an entity's procurement procedures must ensure that all procurement transactions are conducted, as much as practical, to provide open and free competition. If a proposal identifies a specific entity to provide services, ETA's award does not provide the justification or basis to sole source the procurement, i.e., avoid competition, unless the activity is regarded as the primary work of an official partner to the application.

C. Special Program Requirements

ETA requires that the program or project participate in an evaluation of overall performance. To measure the impact of the TBL demonstration grant program, ETA may arrange for or conduct an independent evaluation of the outcomes and benefits of the projects. At minimum, grantees will be required to track performance using the common performance measures for any training component of their program. Grantees must agree to make records on participants, employers and funding available, and to provide access to program operating personnel and participants, as specified by the evaluator(s) under the direction of ETA, including after the expiration date of the grant. Please see Evaluation and Data Collection under Part V. Applications Review Process, Program Design, User Support, and Outcomes for more details. In addition, once the grants are awarded, the evaluation team will provide specific information on the scope of the evaluation.

D. Reporting

As a condition of participation in the TBL demonstration grant program, successful applicants will be required to submit periodic reports such as the Quarterly Financial Reports, Progress Reports and Final Reports as follows:

Quarterly Financial Reports. A Quarterly Financial Status Report (ETA 9130)/OMB Approval No. 1205-0461 is required until all funds have been expended and/or the grant period has expired. Quarterly financial reports are due 45 days after the end of each calendar year quarter. Grantees must use ETA's Online Electronic Reporting System.

Quarterly Progress Reports. The grantee must submit a quarterly progress report, Performance Progress Report, SF-PPR/OMB Approval Number: 0970-0443, to the designated Federal Project Officer within 45 days after the end of each calendar year quarter. Two copies are to be submitted providing a detailed account of activities undertaken during that quarter. ETA may require additional data elements to be collected and reported on either a regular basis or special request basis. Grantees must agree to meet ETA's reporting requirements. The quarterly progress report must be in narrative form and must include:

In-depth information on accomplishments including project success stories, upcoming grant activities, promising approaches and processes, and progress toward performance outcomes, among others. Also, reports should include updates on product, curricula, training development, challenges, barriers, or concerns regarding project progress. Reports should also include lessons learned in the areas of project administration and management, project implementation, partnership relationships, and other related information. ETA will provide grantees with guidance and tools to help develop the quarterly reports once the grants are awarded.

Final Report. A draft final report must be submitted no later than 60 days prior to the expiration date of the grant. This report must summarize project activities, employment outcomes, and related results of the training project, and should thoroughly document capacity building and training approaches. The final report should also include copies of all deliverables, e.g. curricula and competency models. After responding to ETA questions and comments on the draft report, three copies of the final report must be submitted no later than the grant expiration date. Grantees must agree to use a designated format specified by ETA for preparing the final report.

Part VII. DOL Agency Contact Information

For further information regarding this SGA, please contact Mamie Williams, Grants Management Specialist, (202) 693-3341. (Please note this is not a toll-free number.) Applicants should fax all technical questions to (202) 693-2879 and must specifically address the fax to the attention of Mamie Williams and should include SGA/DFA PY 08-04, a contact name, fax and phone number, and e-mail address. This announcement is being made available on the ETA Web site at http://www.doleta.gov/sga/sga.cfm, at http://www.grants.gov, as well as in the Federal Register.

Part VIII. Additional Resources of Interest to Applicants

Resources for the Applicant

ETA maintains a number of Web-based resources that may be of assistance to applicants.

• The Workforce3One Web site at http://www.workforce3one.org is a valuable resource for information about demand driven projects of the workforce investment system, educators, employers, and economic development representatives.

• America's Service Locator at http://www.servicelocator.org provides a directory of the nation's One-Stop Career Centers.

• Career Voyages at http://www.careervoyages.com is a Web site targeted at youth, parents, counselors, and career changers that provides information about career opportunities in high-growth/high-demand industries.

• Applicants are encouraged to review “Help with Solicitation for Grant Applications” at http://www.dol.gov/cfbci/sgabrochure.htm.

• For a basic understanding of the grants process and basic responsibilities of receiving Federal grant support, please see “Guidance for Faith-Based and Community Organizations on Partnering with the Federal Government” available at http://www.whitehouse.gov/government/fbci/guidance/index.html.

Other Information

OMB Information Collection No. 1205-0458.

Expires: September 30, 2009.

According to the Paperwork Reduction Act of 1995, no persons are required to respond to a collection of information unless such collection displays a valid OMB control number. Public reporting burden for this collection of information is estimated to average 20 hours per response, including time for reviewing instructions, searching existing data sources, gathering and maintaining the data needed, and completing and reviewing the collection of information. Send comments regarding the burden estimated or any other aspect of this collection of information, including suggestions for reducing this burden, to the U.S. Department of Labor, the OMB Desk Officer for ETA, Office of Management and Budget, Room 10235, Washington, DC 20503. Please do not return the completed application to the OMB. Send it to the sponsoring agency as specified in this solicitation. This information is being collected for the purpose of awarding a grant. The information collected through this “Solicitation for Grant Applications” will be used by the Department of Labor to ensure that grants are awarded to the applicants best suited to perform the functions of the grant. Submission of this information is required in order for the applicant to be considered for award of this grant. Unless otherwise specifically noted in this announcement, information submitted in the respondent's application is not considered to be confidential.

Signed at Washington, DC, this 12th day of June, 2008.
James W. Stockton,
Grant Officer.

[FR Doc. E8-13967 Filed 6-19-08; 8:45 am]

BILLING CODE 4510-FN-P